DEPARTMENT OF TRANSPORTATION

Federal Highway Administration

Environmental Impact Statement: Multiple South and East Texas Counties, State of Texas

AGENCY: Federal Highway Administration (FHWA), DOT.

ACTION: Notice of intent.

SUMMARY: The FHWA is issuing this notice to advise the public that a Tier One Environmental Impact Statement (EIS) will be prepared for the proposed extension of Interstate Highway 69 (I-69) from near Laredo and the Lower Rio Grande Valley. The proposed I-69 facility is being evaluated as an element of the National High Priority Corridor 18 and Corridor 20 systems. In addition, I-69 is being evaluated as an element of the Trans-Texas System as outlined in the Trans-Texas Corridor Plan (TTCP). As currently envisioned, the proposed Trans-Texas System could include lanes for passenger vehicles, separate lanes for trucks, rail lines and a utility corridor.

FHWA is using a tiered approach for evaluating this proposal. Tier One will study the broader level decision to determine the location of an I-69/Trans-Texas Corridor. After the Tier One decision has been made, FHWA will proceed with the I-69 highway component by performing project level studies in a Tier Two decision process. Other Federal, State and/or Local agencies would pursue project decisions for the non-highway modes after the Tier One decision.

FOR FURTHER INFORMATION CONTACT: John Mack, P.E., District Engineer, Federal Highway Administration, 300 E. 8th Street, Room 826, Austin, Texas 78701, by telephone at (512) 536-5960.

SUPPLEMENTARY INFORMATION: Please refer to the previous Announcement of I-69 Status published as Federal Register Notice, Volume 65, No. 237, Friday, December 8, 2000.

Using a tiered approach to study I-69 in Texas, the FHWA, in cooperation with the Texas Department of Transportation (TxDOT), intends to prepare a Tier One EIS on a proposal to identify a corridor for ultimate construction of I-69 as a controlled access, multimodal transportation facility. This project responds to the need for a strategic, high priority highway serving the east-central United States, as outlined in the national High Priority Corridors 18 and 20 studies defined by Congress in the 1991 Intermodal Surface Transportation Efficiency Act (ISTEA), as extended in 1993 and 1995, and the 1998 Transportation Equity Act for the 21st Century (TEA-21). I-69 is planned to be a continuous north-south corridor linking Canada, the United States, and Mexico. The proposed facility would also serve as a high priority element of the statewide Trans-Texas System as outlined in the June 2002 report published by TxDOT entitled “Crossroads of the Americas: Trans Texas Corridor Plan.”

As currently envisioned, Trans-Texas would potentially include highway lanes for passenger vehicles; separate lanes for trucks; and six rail lines (one in each direction serving freight, commuter and high speed passenger traffic). The width of the proposed facility would be approximately 1,000 to 1,200 feet including a 200-foot wide utility zone that could ultimately accommodate lines for water, petroleum, natural gas, electricity, data, and other commodities. The overall length of the corridor is approximately 1,000 miles but the final length is dependent upon the location decision.

FHWA and TxDOT anticipate utilizing a combination of traditional and innovative financing options to fund construction of the proposal facility. These options include state and federal transportation sources, public/private partnerships, and tolling.

The Tier One EIS will focus on broad issues and generally address the national, regional and area-wide implications of the major alternatives. The Tier One study will not authorize construction of any element of the proposed facility. Anticipated decisions to be made during the Tier One study include evaluation of the “no action” alternative; identification of a preferred corridor location where the I-69 highway element and the remaining modal elements of the Trans-Texas Corridor can be coincidal and where they will be separated; refinement of modal concepts; identification of segments of independent utility (to be studied further in subsequent tiers); identification of areas that may warrant corridor preservation; and development of a plan for further action. Documents prepared during subsequent tiers would rely upon and utilize the environmental analysis in the Tier One. As a priority element of a national I-69 corridor initiative, the proposed facility would address interstate and international transportation needs, goals and objectives.

Letters describing the proposed action and soliciting comments will be sent to appropriate federal, state and local authorities as well as private organizations, individuals and stakeholders who have previously expressed or are known to have an interest in this proposal. Public meetings and public hearings will be held during appropriate phases of the project development process. Public notices will be given of the date, time, and location of each.

A second high priority Trans-Texas Corridor, the IH 35 High Priority Corridor, is also under development and a Tier One Corridor EIS is being considered for that facility. A separate Notice of Intent will be published by the FHWA for that EIS.

Although the I-69 and IH-35 Corridor facilities are separate and distinct actions, with each having logical termini and independent utility, each of the proposed facilities share the need to terminate along the Texas-Mexico International Border (or Texas Gulf Coast) resulting in overlap of study areas. In the overlapping areas, care will be taken to closely coordinate the development of the two separate facilities in order to minimize duplication of effort and inconvenience to the public, resource agencies, and other stakeholders. Both projects will be considered in the cumulative impacts analysis for each of the facilities.

To ensure that the full range of issues related to this proposed action is addressed and all significant concerns are identified, comments and suggestions are invited from all interested parties. Comments or questions concerning this proposed action and the Tier One EIS should be directed to the FHWA at the address provided above.

(Catalog of Federal Domestic Assistance Program Number 20.205, Highway Research, Planning and Construction. The regulations implementing Executive Order 12372 regarding intergovernmental consultation on Federal programs and activities apply to this program.)
Issued on: January 6, 2004.
John Mack,
District Engineer, Austin, Texas.

[FR Doc. 04-866 Filed 1-14-04; 8:45 am]

BILLING CODE 4910-22-M